DEPARTMENT OF VETERANS AFFAIRS

National Research Advisory Council; Notice of Meeting

The Department of Veterans Affairs (VA) gives notice under Public Law 92-463 (Federal Advisory Committee Act) that the National Research Advisory Council will hold a meeting on Tuesday, March 29, 2005, at the Hamilton Crowne Plaza Hotel, 14th & K Streets, NW., Washington, DC, from 8:30 a.m. until 3 p.m. The meeting is open to the public.

The purpose of the Council is to provide advice to the Secretary of Veterans Affairs on research and development sponsored and/or conducted by the Department of Veterans Affairs to include policies and programs of the Research and Development Office.

The meeting will begin with opening remarks by the Acting Chief Research and Development Officer. The Council will receive informational briefings on the status of the VA research program and the research portfolio.

Any member of the public wishing to attend the meeting or wishing further information should contact Ms. Karen Scott, Designated Federal Officer, at (202) 254-0200. Oral comments from the public will not be accepted at the meeting. Written statements or comments should be transmitted electronically to karen.scott@hq.med.va.gov or mailed to Ms. Scott at Department of Veterans Affairs, Office of Research and Development (12C), 810 Vermont Ave., NW., Washington, DC 20420.

Dated: March 9, 2005.
By Direction of the Secretary.
E. Philip Riggin,
Committee Management Officer.

[FR Doc. 05-5237 Filed 3-16-05; 8:45 am]

BILLING CODE 8320-01-M